DEPARTMENT OF THE INTERIOR

Fish and Wildlife Service

[FWS-R8-ES-2008-N0338; 80221-1113-0000-F5]

Endangered Species Recovery Permit Applications

AGENCY: Fish and Wildlife Service, Interior.

ACTION: Notice of receipt of permit applications; request for comment.

SUMMARY: We invite the public to comment on the following applications to conduct certain activities with endangered species.

DATES: Comments on these permit applications must be received on or before January 15, 2009.

ADDRESSES: Written data or comments should be submitted to the U.S. Fish and Wildlife Service, Endangered Species Program Manager, Region 8, 2800 Cottage Way, Room W-2606, Sacramento, CA, 95825 (telephone: 916-414-6464; fax: 916-414-6486). Please refer to the respective permit number for each application when submitting comments. All comments received, including names and addresses, will become part of the official administrative record and may be made available to the public.

FOR FURTHER INFORMATION CONTACT: Daniel Marquez, Fish and Wildlife Biologist, see ADDRESSES, (telephone: 760-431-9440; fax: 760-431-9624).

SUPPLEMENTARY INFORMATION: The following applicants have applied for scientific research permits to conduct certain activities with endangered species pursuant to section 10(a)(1)(A) of the Endangered Species Act (16 U.S.C. 1531 et seq.). The U.S. Fish and Wildlife Service (“we”) solicits review and comment from local, State, and Federal agencies, and the public on the following permit requests. Before including your address, phone number, e-mail address, or other personal identifying information in your comment, you should be aware that your entire comment—including your personal identifying information—may be made publicly available at any time. While you can ask us in your comment to withhold your personal identifying information from public review, we cannot guarantee that we will be able to do so.

Permit No. TE-054011

Applicant: John F. Green, Riverside, California

The applicant requests a permit to take (capture and release) the San Bernardino kangaroo rat (Dipodomys merriami parvus) in conjunction with surveys throughout the range of the species in California for the purpose of enhancing their survival.

Permit No. TE-198929

Applicant: James T. Smith, Carlsbad, California

The applicant requests a permit to take (capture, collect, and kill) the Conservancy fairy shrimp (Branchinecta conservatio), the longhorn fairy shrimp (Branchinecta longiantenna), the Riverside fairy shrimp (Streptocephalus wootoni), the San Diego fairy shrimp (Branchinecta sandiegonensis), and the vernal pool tadpole shrimp (Lepidurus packardi) in conjunction with surveys throughout the range of each species in California for the purpose of enhancing their survival.

Permit No. TE-198925

Applicant: Genevieve K. Walden, San Francisco, California

The applicant requests a permit to remove/remove to possession the Phacelia argillacea (Clay phacelia), Phacelia formosula (North Park phacelia), Phacelia insularis subsp insularis (island phacelia), Eriodictyon altissimum (Indian Knob mountain balm), and Eriodictyon capitatum (Lompoc yerba santa) from federal lands in conjunction with genetic research sampling for the purpose of enhancing their survival.

Permit No. TE-198922

Applicant: Latisha M. Burnaugh, Sacramento, California

The applicant requests a permit to take (capture, collect, and kill) the Conservancy fairy shrimp (Branchinecta conservatio), the longhorn fairy shrimp (Branchinecta longiantenna), the Riverside fairy shrimp (Streptocephalus wootoni), the San Diego fairy shrimp (Branchinecta sandiegonensis), and the vernal pool tadpole shrimp (Lepidurus packardi) in conjunction with surveys throughout the range of each species in California for the purpose of enhancing their survival.

Permit No. TE-198917

Applicant: Dirk T. Pedersen, McKinleyville, California

The applicant requests a permit to take (survey, capture, and release) the tidewater goby (Eucyclogobius newberryi), in conjunction with surveys and population monitoring throughout the range of the species in California, for the purpose of enhancing its survival.

Permit No. TE-198915

Applicant: Trevor M. Lucas, McKinleyville, California

The applicant requests a permit to take (survey, capture, and release) the tidewater goby (Eucyclogobius newberryi), in conjunction with surveys and population monitoring throughout the range of the species in California, for the purpose of enhancing its survival.

Permit No. TE-198910

Applicant: Lauren D. Dusek, Arcata, California

The applicant requests a permit to take (survey, capture, and release) the tidewater goby (Eucyclogobius newberryi), in conjunction with surveys and population monitoring throughout the range of the species in California, for the purpose of enhancing its survival.

Permit No. TE-132855

Applicant: Carly M. Spahr, Port Hueneme, California

The applicant requests an amendment to take (harass by survey, and locate/monitor nests) the California least tern (Sterna Antillarum browni) in conjunction with surveys and population monitoring studies within Ventura County, California, for the purpose of enhancing its survival.

Permit No. TE-200340

Applicant: Andrew R. Hatch, South Lake Tahoe, California

The applicant requests a permit to take (survey, capture, handle, and release) the California tiger salamander (Ambystoma californiense) in conjunction with surveys throughout the range of the species in California, for the purpose of enhancing its survival.

Permit No. TE-200339

Applicant: Sarah M. Foster, Sacramento, California

The applicant requests a permit to take (survey, capture, handle, and release) the California tiger salamander (Ambystoma californiense) in conjunction with surveys throughout the range of the species in California, for the purpose of enhancing its survival.

Permit No. TE-016381

Applicant: United States Geological Survey, Dixon, California

The applicant requests an amendment to take (capture, collect, and sacrafice) the desert pupfish (Cyprinodon macularius) in conjunction with scientific research in Imperial County, California for the purpose of enhancing its survival.

Permit No. TE-179036

Applicant: Cullen A Wilkerson, Kensington, California

The applicant requests an amendment permit to take (survey, capture, handle, and release) the San Francisco garter snake (Thamnophis sirtalis tetrataenia) and the California tiger salamander (Ambystoma californiense) in conjunction with surveys within Solano, Napa Yolo, Butte, Contra Costa, San Mateo, Alameda, San Joaquin, and Santa Clara Counties, California for the purpose of enhancing its survival.

Permit No. TE-829554

Applicant: Barbara E. Kus, San Diego, California

The applicant requests a permit amendment to take (collect feathers) the least Bell's vireo (Vireo bellii pusillus) in conjunction with genetic studies throughout the range of the species in California, Nevada, Arizona, and New Mexico, and take (locate and monitor nests, capture, band, color-band, and release) the least Bell's vireo (Vireo bellii pusillus) in conjunction with population monitoring studies throughout the range of the species in Nevada and Arizona for the purpose of enhancing its survival.

Permit No. TE-032195

Applicant: Sean R. Avent, San Francisco, California

The applicant requests an amendment permit to take (survey, capture, handle, and release) the California tiger salamander (Ambystoma californiense) in conjunction with surveys throughout the range of the species in California, for the purpose of enhancing its survival.

We solicit public review and comment on each of these recovery permit applications. Comments and materials we receive will be available for public inspection, by appointment, during normal business hours at the address listed in the ADDRESSES section of this notice.

Dated: December 9, 2008.
Michael Fris,
Acting Regional Director, Region 8, Sacramento, California.

[FR Doc. E8-29666 Filed 12-15-08; 8:45 am]

BILLING CODE 4310-55-P